DEPARTMENT OF DEFENSE

[OMB Control Number 0704-0252]

Information Collection Requirements; Defense Federal Acquisition Regulation Supplement; Use of Government Sources by Contractors

AGENCY: Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through September 30, 2001. DoD proposes that OMB extend its approval for use through September 30, 2004.

DATES: DoD will consider all comments received by June 12, 2001.

ADDRESSES: Respondents may submit comments directly on the World Wide Web at http://emissary.acq.osd.mil/dar/dfars.nsf/pubcomm. An as alternative, respondents may e-mail comments to: dfars@acq.osd.mil. Please cite OMB Control Number 0704-0252 in the subject line of e-mailed comments.

Respondents that cannot submit comments using either of the above methods may submit comments to: Defense Acquisition Regulations Council, Attn: Mr. Rick Layser, OUSD(AT&L)DP(DAR), IMD 3C132, 3062 Defense Pentagon, Washington, DC 20301-3062; facsimile (703) 602-0350. Please cite OMB Control Number 0704-0252.

At the end of the comment period, interested parties may view public comments on the World Wide Web at http://emissary.acq.osd.mil/dar/dfars.nsf.

FOR FURTHER INFORMATION CONTACT: Mr. Rick Layser, (703) 602-0293. The information collection requirements addressed in this notice are available electronically on the World Wide Web at: http://www.acq.osd.mil/dp/dars/dfars.html. Paper copies are available from Mr. Rick Layser, OUSD (AT&L) DP (DAR), IMD 3C132, 3062 Defense Pentagon, Washington, DC 20301-3062.

SUPPLEMENTARY INFORMATION: Title and OMB Number: Defense Federal Acquisition Regulation Supplement (DFARS) Part 251, Use of Government Sources by Contractors, and related clauses in DFARS 252.251; OMB Control Number 0704-0252.

Needs and Uses: This information collection requirement facilitates contractor use of Government supply sources. Contractors must provide certain information to the Government to verify their authorization to purchase from Government supply sources or to use Interagency Fleet Management System vehicles and related services.

Affected Public: Businesses or other for-profit and not-for-profit institutions.

Annual Burden Hours: 5,250.

Number of Respondents: 3,500.

Responses Per Respondent: 3.

Annual Responses: 10,500.

Average Burden Per Response: .5 hours.

Frequency: On occasion.

Summary of Information Collection

The clause at DFARS 252.251-7000, Ordering from Government Supply Sources, requires a contractor to provide a copy of an authorization when placing an order under a Federal Supply Schedule or a Personal Property Rehabilitation Price Schedule.

The Clause at DFARS 252.251-7001, Use of Interagency Fleet Management System Vehicles and Related Services, requires a contractor to submit a request for use of Government vehicles when the contractor is authorized to use such vehicles, and specifies the information to be included in the contractor's request.

Michele P. Peterson,
Executive Editor, Defense Acquisition Regulations Council.

[FR Doc. 01-9195 Filed 4-12-01; 8:45 am]

BILLING CODE 5000-04-M